DEPARTMENT OF LABOR

Employment and Training Administration

[TA-W-65,745]

Delphi Corporation, Flint, MI; Notice of Termination of Investigation

In accordance with Section 221 of the Trade Act of 1974, as amended, an investigation was initiated on April 3, 2009 in response to a petition filed by a United Auto Workers Local 651 Union representative on behalf of workers of Delphi Corporation, Flint, Michigan.

The petitioner has requested that the petition be withdrawn. Consequently, the investigation has been terminated.

Signed in Washington, DC, this 23rd day of April 2009.
Richard Church,
Certifying Officer, Division of Trade Adjustment Assistance.

[FR Doc. E9-11872 Filed 5-20-09; 8:45 am]

BILLING CODE 4510-FN-P